DEPARTMENT OF STATE

[Public Notice: 12388]

Notice of Renewal of the Advisory Committee on International Law Charter; Notice of Meeting

The Department of State has renewed the charter of the Advisory Committee on International Law. The Committee is composed of former Legal Advisers of the Department of State and up to 30 individuals appointed by the Legal Adviser or, if that position is vacant, a Deputy Legal Adviser. Through the Committee, the Department of State will continue to obtain the views and advice of outstanding members drawn from a cross section of the legal profession. The Committee follows procedures prescribed by the Federal Advisory Committee Act (FACA). Its meetings are open to the public unless a determination is made in accordance with the FACA and 5 U.S.C. 552b(c) that a meeting or portion of a meeting should be closed to the public. Notice of each meeting will be published in the Federal Register at least 15 days prior to the meeting, unless extraordinary circumstances require shorter notice.

Notice of Open Meeting

A meeting of the Department of State's Advisory Committee on International Law will take place on Friday, May 31, 2024, from 9:30 a.m. to 3:45 p.m. at the George Washington University Law School, Michael K. Young Faculty Conference Center, 716 20th St. NW, 5th Floor, Washington, DC. Acting Legal Adviser Richard Visek will chair the meeting, which will be open to the public up to the capacity of the meeting room. The meeting will include discussions on the development of purported new rights and implied obligations under international human rights law; trends in international dispute settlement, including discussion of cases before the International Civil Aviation Organization and the International Court of Justice; and obligations related to the facilitation of humanitarian access under international law.

Members of the public who wish to attend should contact the Office of the Legal Adviser by May 24, at rangchitm@state.gov or (202) 240-1662 and provide their name, professional affiliation (if any), and phone number. Priority for in-person seating will be given to members of the Advisory Committee, and remaining seating will be reserved based upon when persons contact the Office of the Legal Adviser. Individuals who wish to attend virtually may request a link to the virtual meeting platform. Attendees who require reasonable accommodation should make their requests by May 24. Requests received after that date will be considered but might not be possible to accommodate.

FOR FURTHER INFORMATION CONTACT: Tara M. Rangchi, Executive Director, Advisory Committee on International Law, Department of State, at 202-240-1662 or RangchiTM@state.gov.

Tara M. Rangchi,
Executive Director, Advisory Committee on International Law, Department of State.

[FR Doc. 2024-09610 Filed 5-2-24; 8:45 am]

BILLING CODE 4710-08-P